DEPARTMENT OF ENERGY

Federal Energy Regulatory Commission

Notice of Commissioners and Staff Attendance at FERC Leadership Development Program Induction Ceremony

January 26, 2011.

The Federal Energy Regulatory Commission (FERC or Commission) hereby gives notice that members of the Commission and/or Commission staff may attend the following event:

FERC Leadership Development Program Induction Ceremony: 888 First Street, NE., Washington, DC 20426. February 1, 2011 (2 p.m.-3 p.m.)

The event will introduce and welcome 16 employees selected for the 2011 Leadership Development Program.

Kimberly D. Bose,
Secretary.

[FR Doc. 2011-2220 Filed 2-1-11; 8:45 am]

BILLING CODE 6717-01-P